DEPARTMENT OF COMMERCE

National Institute of Standards and Technology

Notice of Government Owned Inventions Available for Licensing

SUMMARY: The inventions listed below are owned in whole or in part by the U.S. Government, as represented by the Department of Commerce. The Department of Commerce's ownership interest in the inventions is available for licensing in accordance with 35 U.S.C. 207 and 37 CFR part 404 to achieve expeditious commercialization of results of Federally funded research and development.

FOR FURTHER INFORMATION CONTACT: Technical and licensing information on these inventions may be obtained by writing to: National Institute of Standards and Technology, Office of Technology Partnerships, Building 820, Room 213, Gaithersburg, MD 20899; Fax 301-869-2751. Any request for information should include the NIST Docket No. and Title for the relevant invention as indicated below.

SUPPLEMENTARY INFORMATION: NIST may enter into a Cooperative Research and Development Agreement (“CRADA”) with the licensee to perform further research on the inventions for purposes of commercialization. The inventions available for licensing are:

NIST Docket Number: 99-018US

Title: Humidity Chamber For Scanning Stylus Atomic Force Microscope With Cantilever Tracking.

Abstract: The present invention provides a novel humidity chamber suitable for use with an atomic force microscope (AFM).The humidity chamber of the present invention employs an intricate geometrical design which can accommodate a scanned-stylus AFM with an optical lever. This geometrical design allows the invention to enclose one or more of the AFM scanner, tip assembly, optical lever detection system, sample and an optical microscope objective lens, without degrading the ability to operate the AFM or the related systems. The invention is comprised of two major pieces: a chamber within which the AFM scanning head assembly is placed, and an integrated sample platform and spring-loaded base-plate that allows samples to be loaded and unloaded without removal of the chamber from the AFM scanning head assembly. The sample platform, which extends up from the base-plate and is inserted into the chamber and the bottom portion of the sample platform to secure the sample platform and base-plate. The spring-loaded base allows the z-directional motors of the AFM to be used to position the sample just below the probe prior to scanning, while at the same time providing an essentially air-tight fit between the chamber and the AFM scanning head. An embodiment of the present invention is suitable for use with one or both of a means for sensing relative humidity and a means for controlling relative humidity.

NIST Docket Number: 99-021US

Title: A Rotating-Wheel Refreshable Braille Reader.

Abstract: This invention would produce computer-refreshable Braille text for tactile reading by the blind and visually impaired, thus improving accessibility to computer services such as electronic books, e-mail and other network access, and general computer use. Cost and mechanical reliability are the two main impediments to widespread use of refreshable Braille devices. This device utilizes a rotating-wheel and is designed to be mechanically simpler than existing refreshable Braille devices, while providing much of their functionality as well as additional features. It is believed that this design will allow for greatly lowered cost and improved reliability in comparison to existing systems. It is believed that this device can be implemented in such a way as to provide refreshable Braille text to the user at a “typical” reading rate of 125 words per minute, and also at a “high” reading rate of 250 words per minute.

NIST Docket Number: 97-038US

Title: Micron-Scale Differential Scanning Calorimeter On A Chip.

Abstract: A differential scanning microcalorimeter produced on a silicon chip enables microscopic scanning calorimetry measurements of small samples and thin films. The chip may be fabricated using standard CMOS processes. The microcalorimeter includes a reference zone and a sample zone. The reference and sample zones may be at opposite ends of a suspended platform or may reside on separate platforms. An integrated polysilicon heater provides heat to each zone. A thermopile consisting of a succession of thermocouple junctions generates a voltage representing the temperature difference between the reference and sample zones. Temperature differences between the zones provide information about the chemical reactions and phase transitions that occur in a sample placed in the sample zone.

Dated: July 21, 2000.
Karen H. Brown,
Deputy Director.

[FR Doc. 00-19087 Filed 7-27-00; 8:45 am]

BILLING CODE 3510-13-M